DEPARTMENT OF AGRICULTURE

Natural Resources Conservation Service

Extension of Comment Period for the Technical Guidance for Developing Comprehensive Nutrient Management Plans (CNMPs)

AGENCY: Natural Resources Conservation Service (NRCS), U.S. Department of Agriculture.

ACTION: Notice and request for comments.

SUMMARY: This Public Notice announces an extension of the comment period deadline for the Technical Guidance for Developing Comprehensive Nutrient Management Plans.

DATES: Comments will be received until April 14, 2000.

ADDRESSES: Address all requests and comments to: Francine A. Gordon, Management Assistant, Natural Resources Conservation Service, ATTN: CNMP, 5601 Sunnyside Avenue, Stop Code 5473, Beltsville, Maryland 20705.

FOR FURTHER INFORMATION CONTACT: Obie Ashford, Natural Resources Conservation Service, 301-504-2197; fax 301-504-2264, e-mail obie.ashford@usda.gov

SUPPLEMENTARY INFORMATION: This is a summary of the Public Notice, released December 9, 1999. The complete text of the Public Notice is available on the NRCS website at http://www.nhq.nrcs.usda.gov/PROGRAMS/ahcwpd/ahCNMP.html.

The “Technical Guidance for Developing Comprehensive Nutrient Management Plans” is a document intended for use by Natural Resources Conservation Service (NRCS) and conservation partner State and local field staffs, private consultants, landowners/operators, and others that will be developing or assisting in the development of Comprehensive Nutrient Management Plans (CNMP). The purpose of this document is to provide technical guidance, not to establish regulatory requirements, for local, tribal, State, or Federal programs. This technical guidance is not intended as a sole source or reference for developing CNMPs. CNMP is a subset of a conservation plan unique to animal feeding operations. A CNMP is a group of conservation practices and management activities which, when combined into a system, will help to ensure that both production and natural resource goals are achieved. It incorporates practices to utilize animal manure and organic by-products as a beneficial resource. A CNMP addresses natural resource concerns dealing with nutrient and organic by-products and their adverse impacts on water quality. The objective of a CNMP is to combine management activities and conservation practices into a system that, when implemented, will minimize the adverse impacts of animal feeding operations on water quality.

USDA prohibits discrimination in their programs and activities on the basis of race, color, national origin, gender, religion, age, sexual orientation, or disability. Additionally, discrimination on the basis of political beliefs and marital or family status is also prohibited by statutes enforced by USDA. (Not all prohibited bases apply to all programs). Persons with disabilities who require alternative means for communication of program information (Braille, large print, audio tape, etc.) should contact the USDA's Target Center at (202) 720-2600 (voice and TDD).

To file a complaint of discrimination with USDA, write USDA Director, Office of Civil Rights, Room 326-W, Whitten Building, 14th and Independence Avenue, SW, Washington, D.C. 20250-9410, or call (202) 720-5964 (voice and TDD). The USDA is an equal opportunity provider and employer.

Signed at Washington, D.C., on March 8, 2000
Pearlie S. Reed,
Chie, Natural Resources Conservation Service

[FR Doc. 00-6411 Filed 3-14-00; 8:45 am]

BILLING CODE 3410-16-P